DEPARTMENT OF DEFENSE

Defense Acquisition Regulations System

48 CFR Chapter 2

Defense Federal Acquisition Regulation Supplement; Material Inspection and Receiving Report (DFARS Case 2009-D023)

AGENCY: Defense Acquisition Regulations System, Department of Defense (DoD).

ACTION: Proposed rule with request for comments.

SUMMARY: DoD is issuing a proposed rule to update Defense Federal Acquisition Regulation Supplement (DFARS), Appendix F, Material Inspection and Receiving Report, to incorporate procedures for using the electronic Wide Area Workflow Receiving Report required for use in most contracts in lieu of the DD Form 250, Material Inspection and Receiving Report, which is now used mostly on an exception basis.

DATES: Comments on the proposed rule should be submitted in writing to the address shown below on or before November 16, 2010, to be considered in the formation of the final rule.

ADDRESSES: Respondents may submit comments via the Internet at http://www.regulations.gov. As an alternative, respondents may e-mail comments to dfars@osd.mil. Please cite DFARS Case 2009-D023 in the subject line of e-mailed comments.

Respondents that cannot submit comments using either of the above methods may submit comments to: Defense Acquisition Regulations System, OUSD(AT&L)DPAP/DARS, Attn: Ms. Mary Overstreet, 3060 Defense Pentagon, Room 3B855, Washington, DC 20301-3060. Facsimile: 703-602-0350. Please cite DFARS Case 2009-D023.

Interested parties may view public comments on the Internet at http://www.regulations.gov. Comments received generally will be posted without change including any personal information provided.

To confirm receipt of your comment(s), please check http://www.regulations.gov approximately two to three days after submission to verify posting (except allow 30 days for posting of comments submitted by mail).

FOR FURTHER INFORMATION CONTACT: Ms. Mary Overstreet, 703-602-0311.

SUPPLEMENTARY INFORMATION:

A. Background

This case was initiated due to a response by the Director, Defense Procurement and Acquisition Policy (DPAP), to a DoD Inspector General Report entitled “Accuracy of Mechanization of Administration Services Accounts Payable Information,” dated August 14, 2008. In particular, DPAP concurred with a recommendation in the report which stated that DFARS Appendix F should be updated to address changes brought on by deployment of Wide Area Workflow (WAWF), Item Unique Identification, and Radio Frequency Identification.

The proposed rule provides new coverage on the use, preparation, and distribution of the electronic WAWF receiving report which is the primary method for documenting acceptance and distribution of shipments. The rule also addresses WAWF capability to provide the following:

—Item Unique Identification (IUID). When the clause at DFARS 252.211-7003, Item Identification and Valuation, is used in the contract and requires reporting of IUID data, WAWF captures the IUID data and forwards the data to the IUID registry after acceptance. WAWF may be used to report Unique Item Identifiers (UIIs) at the line item level and also UIIs embedded at the line item level.

—Radio Frequency Identification (RFID). When the clause at DFARS 252.211-7006, Radio Frequency Identification, is used in the contract, WAWF will capture the RFID information and forward the data to the receiving location. Using WAWF is the only way a contractor can comply with the clause to furnish RFID data via an Advance Shipping Notice.

Insertion of the new WAWF coverage necessitates relocating and renumbering existing coverage for use, preparation, and distribution of the DD Form 250 Material Inspection and Receiving Report, and the DD Form 250-1 Tanker/Barge Material Inspection and Receiving Report.

B. Regulatory Flexibility Act

DoD does not expect this proposed rule to have a significant economic impact on a substantial number of small entities within the meaning of the Regulatory Flexibility Act, 5 U.S.C. 601, et seq. The proposed rule provides guidance on the preparation and use of the electronic WAWF Receiving Report which is now required for use in most contracts. Additionally, the rule addresses WAWF capability and instructions to comply with reporting requirements for IUID and RFID data submissions.

DoD has prepared an Initial Regulatory Flexibility Analysis which is summarized as follows. The objective of the rule is to facilitate maximum use of WAWF by providing detailed guidance. DFARS Subpart 232.70, Electronic Submission and Processing of Payment Requests and Receiving Reports, prescribes policies for submitting and processing payment requests in electronic form to comply with 10 U.S.C. 2227, Electronic Submission and Processing of Claims for Contract Payments. WAWF is the DoD system for contractors to submit payment and receiving reports in electronic format.

The proposed rule affects all DoD contractors who are not exempt from using WAWF, however, the exact number of small entities is unknown. Exempt classes of contracts are those that are listed under the seven categories of contracts at DFARS 232.7002, Policy.

Recordkeeping required is limited to that required to properly invoice and record shipping and receiving information under Government contracts. Preparation of these records requires clerical and analytic skills to create the documents and input them into the electronic WAWF system.

The rule does not duplicate, overlap, or conflict with any other Federal rules. There are no known significant alternatives to the rule that would meet the requirements of 10 U.S.C. 2227, Electronic Submission and Processing of Claims for Contract Payments, and minimize any significant economic impact of the rule on small entities. Any impact on small business is expected to be beneficial from providing detailed preparation and distribution guidance for use of WAWF.

DoD invites comments from small businesses and other interested parties on the expected impact of this rule on small entities. DoD will also consider comments from small entities concerning existing regulations in subparts affected by this rule in accordance with 5 U.S.C. 610. Interested parties must submit such comments separately and should cite 5 U.S.C. 610 (DFARS Case 2009-D023) in correspondence.

C. Paperwork Reduction Act

The Paperwork Reduction Act (Pub. L. 96-511) applies because information collection requirements in the proposed rule at DFARS Appendix F are currently approved under Office of Management and Budget Control Number 0704-0248. The current approval took into consideration use of the automated WAWF system so inclusion of the WAWF guidance into Appendix F adds no new information collection requirements.

List of Subjects in 48 CFR Appendix F to Chapter 2

Government procurement.

Ynette R. Shelkin,
Editor, Defense Acquisition Regulations System.

Therefore, DoD proposes to amend 48 CFR appendix F to chapter 2 as follows:

Appendix F to Chapter 2—Material Inspection and Receiving Report

1. The authority citation for 48 CFR appendix F to chapter 2 continues to read as follows:

Authority: 41 U.S.C. 421 and 48 CFR chapter 1.

PART 1—INTRODUCTION

2. Revise section F-101 to read as follows:

F-101 General

(a) This appendix contains procedures and instructions for the use, preparation, and distribution of the Wide Area WorkFlow Receiving Report (WAWF RR) in Wide Area Workflow (WAWF), the DD Form 250, Material Inspection and Receiving Report (MIRR) and (DD Form 250 series equivalents) and commercial shipping/packing lists used to document Government contract quality assurance.

(b) The electronic WAWF RR is the primary method for documenting acceptance and distribution of shipments. The paper DD Form 250 MIRR is mostly used on an exception basis.

3. Revise section F-102 to read as follows:

F-102 Applicability

(a) DFARS 252.232-7003, Electronic Submission of Payment Requests and Receiving Reports, requires payment requests and receiving reports using WAWF in most cases.

(b) The provisions of this appendix also apply to supplies or services acquired by DoD when the clause at 252.246-7000, Material Inspection and Receiving Report, is included in the contract.

(c) When DoD provides quality assurance or acceptance services for non-DoD activities, use the instructions in this appendix, unless otherwise specified in the contract.

4. Amend section F-103 by revising paragraphs (a) introductory text, (a)(6), (b), and (c), and adding new paragraph (e) to read as follows:

F-103 Use

(a) The WAWF RR and the DD Form 250 MIRR are multipurpose reports used—

* * * * *

(6) As a contractor invoice.

(i) WAWF provides an option for creating a combined invoice and WAWF RR through use of the invoice and receiving report combo option; and

(ii) The DD Form 250 MIRR may also be used as an invoice (see F-406(b)); and

* * * * *

(b) Do not use the WAWF RR or the DD Form 250 MIRR for shipments—

(1) By subcontractors—Unless the subcontractor is shipping directly to the Government; or

(2) Of contract inventory.—However, WAWF may be used for transfer of Government property using the property transfer function.

(c) The contractor prepares the WAWF RR or the DD Form 250 MIRR, except for entries that an authorized Government representative is required to complete. When using a paper DD Form 250 MIRR, the contractor shall furnish sufficient copies of the completed form, as directed by the Government representative.

* * * * *

(e) In addition to the above uses, the WAWF RR provides additional functionality, not provided by the paper DD Form 250 MIRR, that complies with the following requirements:

(1) Item Unique Identification (IUID), when the clause at 252.211-7003, Item Identification and Valuation is used in the contract, reporting of IUID data is required. WAWF captures the IUID data and forwards the data to the IUID registry after acceptance. WAWF may be used to report Unique Item Identifiers (UIIs) at the line item level and also UIIs embedded at the line item level.

(2) Radio Frequency Identification (RFID), when the clause at 252.211-7006, Radio Frequency Identification, is used in the contract, WAWF will capture the RFID information and forward the data to the receiving location. Using WAWF is the only way a contractor can comply with the clause to furnish RFID data via an Advance Shipping Notice (ASN).

5. Amend section F-104 by revising paragraph (a) and the heading of paragraph (b) to read as follows:

F-104 Application

(a) WAWF RR and DD Form 250 MIRR

(1) Use the WAWF RR or DD Form 250 MIRR for delivery of contract line, subline, exhibit line, or exhibit subline items. Do not use the WAWF RR or DD Form 250 MIRR for those exhibit line or exhibit subline items on a DD Form 1423, Contract Data Requirements List, that indicate no DD Form 250 MIRR is required.

(2) If the shipped to, marked for, shipped from, mode of shipment, contract quality assurance and acceptance data are the same for more than one shipment made on the same day under the same contract, contractors may prepare one WAWF RR or DD Form 250 MIRR to cover all such shipments.

(3) If the volume of the shipment precludes the use of a single car, truck, or other vehicle, prepare a separate WAWF RR or DD Form 250 MIRR for the contents of each vehicle.

(4) When a shipment is consigned to an Air Force activity and the shipment includes items of more than one federal supply class (FSC) or material management code (MMC), prepare a separate WAWF RR or DD Form 250 MIRR for items of each of the FSCs or MMCs in the shipment. However, the cognizant Government representative may authorize a single WAWF RR or DD Form 250 MIRR, listing each of the FSCs or MMCs included in the shipment on a separate continuation sheet. The MMC appears as a suffix to the national stock number applicable to the item.

(5) Consolidation of Petroleum Shipments on a Single WAWF RR or DD Form 250 MIRR.

(i) Contiguous United States. (A) Contractors may consolidate multiple car or truck load shipments of petroleum made on the same day, to the same destination, against the same contract line item, on one WAWF RR or DD Form 250 MIRR. To permit verification of motor deliveries, assign each load a load number which can be identified to the shipment number in Block 2 of the DD Form 250 MIRR. Include a shipping document (commercial or Government) with each individual load showing as a minimum—

(1) The shipper;

(2) Shipping point;

(3) Consignee;

(4) Contract and line item number;

(5) Product identification;

(6) Gross gallons (bulk only);

(7) Loading temperature (bulk only);

(8) American Petroleum Institute gravity (bulk only);

(9) Identification of carrier's equipment;

(10) Serial number of all seals applied; and

(11) Signature of supplier's representative.

(B) When acceptance is at destination, the receiving activity retains the shipping document(s) to verify the entries on the consignee copy of the DD Form 250 MIRR forwarded by the contractor (reference F-401, Table 1) before signing Block 21b.

(ii) Overseas. The same criteria as for contiguous United States applies, except the consolidation period may be extended, if acceptable to the receiving activity, shipping activity, Government finance office, and the authorized Government representative having cognizance at the contractor's facility. In addition, the contractor may include more than one contract line item in each WAWF RR or DD Form 250 MIRR if the shipped to, marked for, shipped from, mode of shipment, contract quality assurance, and acceptance data are the same for all line items.

(6) Consolidation of Coal Shipments on a Single WAWF RR or DD 250 MIRR. (i) Contractors may consolidate multiple railcar or truck shipments of coal made on the same day, to the same destination, against the same contract line items, on one WAWF RR or DD 250 MIRR. To permit verification of truck deliveries, assign each load a load number which can be identified to the shipment number in Block 2 of the DD Form 250 MIRR and the analytical test report. Include a commercial shipping document with each individual truck load showing as a minimum—

(A) The shipper;

(B) The name or names;

(C) Location and shipping point of the mine or mines from which the coal originates;

(D) The contract number;

(E) The exact size of the coal shipped; and

(F) A certified weighmaster's certification of weight for the truckload.

(ii) Include a waybill with each rail shipment showing the identical information. To permit verification of rail deliveries, identify each railcar number comprising the shipment to the shipment number in Block 2 of the DD Form 250 MIRR and the analytical test report. When acceptance is at destination, the receiving activity must retain the shipping document(s) to verify the entries on the consignee copy of the DD Form 250 MIRR.

(b) DD Form 250-1 Tanker/Barge MIRR

* * * * *

PART 3—PREPARATION OF THE WIDE AREA WORKFLOW RECEIVING REPORT (WAWF RR)

6. Revise section F-301 to read as follows:

F-301 Preparation Instructions

(a) General

(1) Preparation instructions and training for the WAWF RR are available at http://wawftraining.com. The instructions on preparing a WAWF RR are part of the contractor training section.

(2) Prime contractors may direct subcontractors to prepare and submit documents in WAWF by giving their subcontractors access to WAWF via Commercial and Government Entity (CAGE) code extension.

(3) If the contract is in Electronic Document Access, DoD's contract repository, then the WAWF system will automatically populate the Issued By, Admin By, and Pay Office Department of Defense Activity Address (DoDAAC) codes.

(i) When source acceptance is required, WAWF will populate the Inspect By with the Admin By DoDAAC code. The contractor will need to change this DoDAAC if Government Source Inspection is performed at other than the Admin By.

(ii) Any fields that have been pre-filled may be changed.

(iii) WAWF will also verify that CAGE codes are valid and active in the CCR (Central Contractor Registration) and that DoDAACs, and Military Assistance Program Address Codes (MAPACs) are valid in the DAAS (Defense Automatic Addressing System).

(4) WAWF will populate the address information for CAGE codes, DODAACs and MAPACs from CCR and DAAS. These are the official DoD sites for address information. Any fields that have been pre-filled may be changed or additional information added.

(5) Do not include classified information in WAWF.

(b) Completion Instructions

(1) CONTRACT NO./DELIVERY ORDER NO.

(i) Enter the 13-position alpha-numeric basic Procurement Instrument Identification Number (PIIN) of the contract. When applicable, enter the four-position alpha-numeric call/order serial number that is supplementary to the 13-position basic PIIN. This number is also referred to as the Supplementary Procurement Instrument Identification Number (SPIIN). Use SPIINs for (also see Subpart 204.70)—

(A) Delivery orders under indefinite-delivery type contracts;

(B) Orders under basic ordering agreements; and

(C) Calls under blanket purchase agreements.

(ii) Except as indicated in paragraph (b)(1)(iii) of this section, do not enter supplementary numbers used in conjunction with basic PIINs to identify—

(A) Modifications of contracts and agreements;

(B) Modifications to calls or orders; or

(C) Document numbers representing contracts written between contractors.

(iii) When shipping instructions are furnished and shipment is made before receipt of the confirming contract modification (SF 30, Amendment of Solicitation/Modification of Contract), enter a comment in the Misc. Info Tab to this effect.

(iv) For DoD delivery orders on non-DoD contracts, enter the non-DoD contract number in the contract number field and enter the DoD contract number in the delivery order field.

(2) SHIPMENT NO.

(i) The shipment number has a three-position alpha character prefix and a four-position numeric or alpha-numeric serial number.

(A) The prime contractor shall control and assign the shipment number prefix. The shipment number shall consist of three alphabetic characters for each “Shipped From” address. The shipment number prefix shall be different for each “Shipped From” address and shall remain constant throughout the life of the contract. The prime contractor may assign separate prefixes when shipments are made from different locations within a facility identified by one “Shipped From” address.

(B) Number the first shipment 0001 for shipments made under the contract or contract and order number from each “Shipped From” address, or shipping location within the “Shipped From” address. Consecutively number all subsequent shipments with the identical shipment number prefix. While shipments should be created sequentially, they may be released and accepted out of sequence.

(1) Use alpha-numeric serial numbers when more than 9,999 numbers are required. Serially assign alpha-numeric numbers with the alpha in the first position (the letters I and O shall not be used) followed by the three-position numeric serial number. Use the following alpha-numeric sequence:

A000 through A999 (10,000 through 10,999)

B000 through B999 (11,000 through 11,999)

Z000 through Z999 (34,000 through 34,999)

(2) When this series is completely used, the shipment number prefix will have to be changed. WAWF will not allow duplicate shipment numbers to be created against a contract or delivery order.

(ii) The prime contractor shall control deliveries and on the final shipment of the contract shall end the shipment number with a “Z.” Where the final shipment is from other than the prime contractor's plant, the prime contractor may elect either to-

(A) Direct the subcontractor making the final shipment to end that shipment number with a “Z”; or

(B) Upon determination that all subcontractors have completed their shipments, to correct the WAWF RR (see F-304) covering the final shipment made from the prime contractor's plant by addition of a “Z” to that shipment number.

(iii) Contractors follow the procedures in F-305 to use commercial invoices.

(3) DATE SHIPPED. Enter the date the shipment is released to the carrier or the date the services are completed. If the shipment will be released after the date of Contract Quality Assurance (CQA) and/or acceptance, enter the estimated date of release. When the date is estimated, enter an “E” in the “Estim.” Block after the date. Do not delay submission of the WAWF RR for lack of entry of the actual shipping date. Correction of the WAWF RR is not required to show the actual shipping date. Once the document is submitted the shipment date cannot be changed.

(4) B/L TCN. When applicable, enter—

(i) The commercial or Government bill of lading number after “B/L”; (WAWF provides the capability to separately and correctly identify the Government Bill of Lading (GBL) from a Commercial Bill of Lading (CBL). An authorized user will select whether the entered bill of lading number is either a GBL number or a CBL number).

(ii) The transportation control number (TCN) must be a 17 alpha/numeric digit min/max field and WAWF provides the capability to enter two (2) secondary transportation tracking numbers.

(5) LINE HAUL MODE. Select the Line Haul Mode of Shipment code from a drop down menu in WAWF.

(6) INSPECTION AND ACCEPTANCE POINT. Enter an “S” for Origin or “D” for Destination. In addition to “S” and “D” WAWF allows acceptance at “Other”. In WAWF, destination acceptance is performed by the “Ship to” DODAAC organization and “Other” permits the acceptance of destination documents at a location other than the Ship to. The goods or services will be shipped to one location and the paperwork will be routed to another location for the actual acceptance.

(7) PRIME CONTRACTOR/CODE. The prime CAGE code to which the contract was awarded.

(8) ADMINISTERED BY/CODE. Enter the Contract Administration Office (CAO) DoDAAC code cited in the contract.

(9) SHIPPED FROM/CODE

(i) Enter the CAGE or DoDAAC code of the “Shipped From” location. If same as the prime CAGE code, leave blank.

(ii) For performance of services line items which do not require delivery of items upon completion of services, enter the code of the location at which the services were performed. If same as the prime CAGE code, leave blank.

(10) FOB. Enter an “S” for Origin or “D” for Destination as specified in the contract. Enter an alphabetic “O” if the “FOB” point cited in the contract is other than origin or destination.

(11) PAYMENT WILL BE MADE BY/CODE. Enter the payment office DoDAAC code cited in the contract.

(12) SHIPPED TO/CODE. Enter the DoDAAC, MAPAC, or CAGE code from the contract or shipping instructions.

(13) MARKED FOR/CODE. Enter the code from the contract or shipping instructions. WAWF will only accept valid DoDAAC, MAPAC, or CAGE codes. Contractors should use the WAWF Mark for Rep and Mark for Secondary fields for textual marking information specified in the contract.

(14) ITEM NO. Enter the item number used in the contract. Use a valid four or six digit line item number under the Uniform Contract Line Item Numbering System (see 204.71). Line item numbers with six digits with numbers in the final two positions are not deliverable or billable.

(15) STOCK/PART NUMBER/DESCRIPTION.

(i) Enter the following for each line item:

(A) The national stock number (NSN) or noncatalog number. If the contract contains NSNs as well as other identification (e.g. part numbers) the contractor should place the NSN information in the Stock Part Number field and the remaining numbers in the line item description field.

(B) In the description field, if required by the contract for control purposes, enter: the make, model, serial number, lot, batch, hazard indicator, or similar description.

(C) The Military Standard Requisitioning and Issue Procedures (MILSTRIP) numbers must be placed on the MILSTRIP Tab, not in the line item description field.

(ii) For service line items, select “SV” for “SERVICE” in the type field followed by as short a description as is possible in no more than 20 additional characters in the description field. Some examples of service line items are maintenance, repair, alteration, rehabilitation, engineering, research, development, training, and testing. The “Ship To” Code and the Unit will have to be filled out. The “Shipped To” Code is the destination Service Acceptor Code for WAWF. If source inspected and accepted enter the service performance location as the Ship To Code.

(iii) For all contracts administered by the Defense Contract Management Agency, with the exception of fast pay procedures, enter the gross weight of the shipment.

(iv) In the description field enter the following as appropriate:

(A) Enter in capital letters any special handling instructions/limits for material environmental control, such as temperature, humidity, aging, freezing, shock, etc.

(B) When a shipment is chargeable to Navy appropriation 17X4911, enter the appropriation, bureau control number (BCN), and authorization accounting activity (AAA) number (e.g., 17X4911-14003-104).

(C) When the Navy transaction type code (TC), “2T” or “7T” is included in the appropriation data, enter “TC 2T” or “TC 7T.”

(D) When an NSN is required by but not cited in a contract and has not been furnished by the Government, the contractor may make shipment without the NSN at the direction of the contracting officer. Enter the authority for such shipment.

(E) When Government furnished property (GFP) is included with or incorporated into the line item, enter the letters “GFP.”

(F) On shipments of Government furnished aeronautical equipment (GFAE) under Air Force contracts, enter the assignment AERNO control number, e.g., “AERNO 60-6354.”

(G) For items shipped with missing components, enter and complete the following:

“Item(s) shipped short of the following component(s):

NSN or comparable identification Quantity________Estimated Value________ Authority

(H) When shipment is made of components which were short on a prior shipment, enter and complete the following:

“These components were listed as shortages on shipment number________, date shipped __________”

(I) When shipments involve drums, cylinders, reels, containers, skids, etc., designated as returnable under contract provisions, enter and complete the following:

“Return to____________, Quantity ________, Item ________, Ownership (Government/contractor).”

(J) Enter the total number of shipping containers, the type of containers, and the container number(s) assigned for the shipment.

(K) On foreign military sales (FMS) shipments, enter the special markings, and FMS case identifier from the contract. Also enter the gross weight.

(L) (1) When test/evaluation results are a condition of acceptance and are not available prior to shipment, the following note shall be entered if the shipment is approved by the contracting officer:

Note: Acceptance and payment are contingent upon receipt of approved test/evaluation results.”

(2) The contracting officer will advise—

(i) The consignee of the results (approval/disapproval); and

(ii) The contractor to withhold invoicing pending attachment of the approved test/evaluation results.

(M) For clothing and textile contracts containing a bailment clause, enter the words “GFP UNIT VALUE.”

(N) When the initial unit incorporating an approved value engineering change proposal (VECP) is shipped, enter the following statement:

This is the initial unit delivered which incorporates VECP

No. ________, Contract Modification;

No. _______, dated _________.

(16) QUANTITY SHIPPED/RECEIVED.

(i) Enter the quantity shipped, using the unit of measure in the contract for payment. When a second unit of measure is used for purposes other than payment, enter the appropriate quantity in the description field.

(ii) On the final shipment of a line item of a contract containing a clause permitting a variation of quantity and an underrun condition exists, the prime contractor shall choose the Ship Advice Code “Z”. Where the final shipment is from other than the prime contractor's plant and an underrun condition exists, the prime contractor may elect to direct the subcontractor making the final shipment to choose the Ship Advice Code “Z”;

(iii) When the Government is performing destination acceptance, the acceptor should enter actual quantity received in apparent good condition in the “Qty. Accepted” field of the Acceptor Line Item Tab.

(17) UNIT OF MEASURE. Enter the abbreviation of the unit measure as indicated in the contract for payment. Where a second unit of measure is indicated in the contract for purposes other than payment or used for shipping purposes, enter the second unit of measure in the description field. Authorized abbreviations are in the WAWF Unit of Measure Table Link. For example, LB for pound, SH for sheet.

(18) UNIT PRICE. The contractor may, at its option, enter unit prices on all WAWF RR copies, except as a minimum:

(i) The contractor shall enter unit prices for each item of property fabricated or acquired for the Government and delivered to a contractor as Government furnished property (GFP). Get the unit price from Section B of the contract. If the unit price is not available, use an estimate. The estimated price should be the contractor's estimate of what the items will cost the Government. When the price is estimated, enter “Estimated Unit Price” in the description field. However, if the contract has Item Unique Identification (IUID) requirements and the receiving report is being processed in WAWF, the unit price represents the acquisition cost that will be passed to the IUID registry. Therefore, the Unit Price is required (see the clause at 252.211-7003, Item Identification and Valuation). When delivering GFP via WAWF to another contractor, WAWF will initiate a property transfer if the contractor who is initiating the WAWF RR is also registered as a contractor property shipper in WAWF and the contractor receiving the property is also a contractor property receiver in WAWF.

(ii) For clothing and textile contracts containing a bailment clause, enter the cited Government furnished property unit value as “GFP UNIT VALUE” in the description field.

(19) AMOUNT. WAWF will calculate and populate the amount by multiplying the unit price times the quantity.

(20) CONTRACT QUALITY ASSURANCE (CQA).

(i) The words “conform to contract” contained in the text above the signature block in the WAWF RR Header Tab relate to quality and to the quantity of the items on the report. Enter notes taking exception in the Misc. Info Tab comment field or on attached supporting documents with an appropriate block cross-reference.

(ii) When a shipment is authorized under an alternative release procedure, the contractor will “execute” the alternative release procedure in WAWF by including the appropriate indicator in the electronic transaction rather than through inclusion or attachment of the text of the certificate. The alternative release procedure only substitutes for source inspection; Government acceptance must still be indicated by a Government official's signature on the WAWF RR.

(iii) When contract terms provide for use of Certificate of Conformance and shipment is made under these terms, the contractors will “execute” a Certificate in WAWF by including the appropriate indicator in the electronic transaction rather than through inclusion or attachment of the text of the certificate. Government acceptance must still be indicated by a Government official's signature on the WAWF RR.

(iv) ORIGIN.

(A) The authorized Government representative must—

(1) Place an “X” in the appropriate CQA and/or acceptance box(es) to show origin CQA and/or acceptance.

(2) Sign and date;

(3) Enter printed name, title, e-mail address, and commercial telephone number.

(B) When fast pay procedures apply, the contractor or subcontractor shall select “FAST PAY” when creating the WAWF RR. When CQA is required, the authorized Government representative shall execute the block as required by paragraph (b)(20)(iv)(A) of this section.

(v) DESTINATION.

When CQA and acceptance or acceptance is at destination, the authorized Government representative must—

(A) Place an “X” in the appropriate box(es);

(B) Sign and date; and

(C) Enter printed name, title, e-mail address, and commercial telephone number.

(21) CONTRACTOR USE ONLY. Self explanatory.

7. Revise section F-303 to read as follows:

F-303 Consolidated Shipments

When individual shipments are held at the contractor's plant for authorized transportation consolidation to a single bill of lading, the contractor may prepare the WAWF RR at the time of CQA or acceptance prior to the time of actual shipment.

8. Remove section F-304.

9. Redesignate section F-305 as section F-304 and revise it to read as follows:

F-304 Correction Instructions

Functionality for correcting a WAWF RR is being developed. Preparation instructions and training for corrections will be available at http://wawftraining.com once the functionality is deployed. The instructions will be part of the contractor training.

10. Redesignate section F-306 as section F-305 and revise it to read as follows:

F-305 Invoice Instructions

Contractors shall submit payment requests and receiving reports in electronic form, unless an exception in 232.7002 applies. Contractor submission of the material inspection and receiving information required by this appendix by using the WAWF electronic form (see paragraph (b) of the clause at 252.232-7003) fulfills the requirement for a DD Form 250 MIRR.

11. Redesignate section F-307 as section F-306 and revise it to read as follows:

F-306 Packing List Instructions

Contractors may also use a WAWF RR as a packing list. WAWF provides options to print the WAWF RR. These printed WAWF RRs may also be used if a signed copy is required.

(a) WAWF provides a print capability for its WAWF RR. The printed WAWF RR can be identified by its distinctive format and by the text “Please look in WAWF for signed copy” underneath the “RECEIVING REPORT” title at the top of each printed page. This printed copy may be used as a packing list. If needed, the signature can be verified by reviewing the signed WAWF RR in WAWF.

(b) Also, the contractor can print a WAWF RR only after a signature is applied by the Government Inspector or Acceptor in WAWF. Copies printed will be annotated with “\\ original signed in WAWF\\” in lieu of the inspector/acceptor's signature.

12. Redesignate section F-308 as section F-307 and revise it to read as follows:

F-307 Receiving Instructions

If CQA and acceptance or acceptance of supplies is required upon arrival at destination, see F-301(b)(20)(v) for instructions.

13. In Appendix F to chapter 2, redesignate Parts 4 through 7 and the sections within those parts as follows:

Old part or section | New part or section
Part 4 | Part 5.
Section F-401 | Section F-502.
Part 5 | Part 6.
Section F-501 | Section F-601.
Part 6 | Part 7.
Section F-601 | Section F-701.
Part 7 | Part 8.
Section F-701 | Section F-801.
Section F-702 | Section F-802.

14. Add part 4 to read as follows:

PART 4-PREPARATION OF THE DD FORM 250 MIRR AND DD FORM 250c MIRR CONTINUATION SHEET

F-401 Preparation instructions.

F-402 Mode/method of shipment codes.

F-403 Consolidated shipments.

F-404 Multiple consignee instructions.

F-405 Correction instructions.

F-406 Invoice instructions.

F-407 Packing list instructions.

F-408 Receiving instructions.

PART 4-PREPARATION OF THE DD FORM 250 MIRR AND DD FORM 250c MIRR CONTINUATION SHEET

F-401 Preparation instructions

(a) General

(1) Dates must use nine spaces consisting of the four digits of the year, three-position alphabetic month abbreviation, and two digits for the day. For example, 2000AUG07, 2000SEP24.

(2) Addresses must consist of the name, street address/P.O. box, city, state, and ZIP code.

(3) Enter to the right of and on the same line as the word “Code” in Blocks 9 through 12 and in Block 14—

(i) The Commercial and Government Entity Handbook (H4/H8) code;

(ii) The DoDAAC as it appears in the DoD Activity Address Directory (DoDAAD), DoD 4000.25-6-M; or

(iii) The Military Assistance Program Address Directory (MAPAD) code.

(4) Enter the DoDAAC, CAGE (H4/H8), or MAPAD code in Block 13.

(5) The data entered in the blocks at the top of the DD Form 250c must be identical to the comparable entries in Blocks 1, 2, 3, and 6 of the DD Form 250 MIRR.

(6) Enter overflow data from the DD Form 250 MIRR in Block 16 or in the body of the DD Form 250c with an appropriate cross-reference. Do not number or distribute additional DD Form 250c sheets solely for continuation of Block 23 data as part of the DD Form 250 MIRR.

(7) Do not include classified information in the DD Form 250 MIRR. DD Form 250 MIRRs must not be classified.

(b) Completion Instructions

(1) Block 1—PROCUREMENT INSTRUMENT IDENTIFICATION (CONTRACT) NO.

See F-301(b)(1) CONTRACT NO./DELIVERY ORDER NO.

(2) Block 2—SHIPMENT NO.

See F—301(b)(2), SHIPMENT NO. When the series is completely used, start over with 0001.

(3) Block 3-DATE SHIPPED. Enter the date the shipment is released to the carrier or the date the services are completed. If the shipment will be released after the date of CQA and/or acceptance, enter the estimated date of release. When the date is estimated, enter an “E” after the date. Do not delay distribution of the DD Form 250 MIRR for the lack of entry of the actual shipping date. Reissuance of the DD Form 250 MIRR is not required to show the actual shipping date.

(4) Block 4—B/L Transportation Control Number TCN. When applicable, enter—

(i) The commercial or Government bill of lading number after “B/L;”

(ii) The transportation control number after “TCN” (when a TCN is assigned for each line item on the DD Form 250 MIRR under Block 16 instructions, insert “See Block 16”); and

(iii) The initial (line haul) mode of shipment code in the lower right corner of the block (see F-302).

(5) Block 5-DISCOUNT TERMS.

(i) The contractor may enter the discount in terms of percentages on all copies of the DD Form 250 MIRR.

(ii) Use the procedures in F-306 when the DD Form 250 MIRR is used as an invoice.

(6) Block 6-INVOICE NO./DATE.

(i) The contractor may enter the invoice number and actual or estimated date of invoice submission on all copies of the DD Form 250 MIRR. When the date is estimated, enter an “E” after the date. Do not correct DD Form 250 MIRRs other than invoice copies to reflect the actual date of invoice submission.

(ii) Use the procedures in F-306 when the DD Form 250 MIRR is used as an invoice.

(7) Block 7-PAGE/OF. Consecutively number the pages of the DD Form 250 MIRR. On each page enter the total number of pages of the DD Form 250 MIRR.

(8) Block 8-ACCEPTANCE POINT. Enter an “S” for Origin or “D” for destination.

(9) Block 9-PRIME CONTRACTOR/CODE. Enter the CAGE code and address.

(10) Block 10-ADMINISTERED BY/CODE. Enter the DoDAAC code and address of the contract administration office (CAO) cited in the contract.

(11) Block 11-SHIPPED FROM/CODE/FOB.

(i) Enter the DoDAAC code and address of the “Shipped From” location. If identical to Block 9, enter “See Block 9.”

(ii) For performance of services line items which do not require delivery of items upon completion of services, enter the code and address of the location at which the services were performed. If the DD Form 250 MIRR covers performance at multiple locations, or if identical to Block 9, enter “See Block 9.”

(iii) Enter on the same line and to the right of “FOB” an “S” for Origin or “D” for Destination as specified in the contract. Enter an alphabetic “O” if the “FOB” point cited in the contract is other than origin or destination.

(iv) For destination or origin acceptance shipments involving discount terms, enter “DISCOUNT EXPEDITE” in at least one-half inch outline-type style letters across Blocks 11 and 12. Do not obliterate other information in these blocks.

(12) Block 12-PAYMENT WILL BE MADE BY/CODE. Enter the DoDAAC code and address of the payment office cited in the contract.

(13) Block 13-SHIPPED TO/CODE. Enter the DoDAAC code and address from the contract or shipping instructions.

(14) Block 14-MARKED FOR/CODE. Enter the DoDAAC code and address from the contract or shipping instructions. When three-character project codes are provided in the contract or shipping instructions, enter the code in the body of the block, prefixed by “Proj”; do not enter in the code block.

(15) Block 15-ITEM NO. Enter the item number used in the contract. This should be a four or six digit number.

(i) Use item numbers under the Uniform Contract Line Item Numbering System (see 204.71).

(ii) Position the item numbers as follows—

(A) For item numbers with four or less digits, enter the number immediately to the left of the vertical dashed line and prefix them with zeros, to achieve four digits.

(B) For item numbers with six digits, with alpha digits in the final two positions, enter the last two digits to the right of the vertical dashed line.

(C) For item numbers with six digits, with numbers in the final two positions, enter the first four digits immediately to the left of the vertical dashed line. Do not use the last two digits.

(iii) Line item numbers not in accordance with the Uniform Contract Line Item Numbering System may be entered without regard to positioning.

(16) Block 16-STOCK/PART NO./DESCRIPTION.

(i) Use single or double spacing between line items when there are less than four line items. Use double spacing when there are four or more line items. Enter the following for each line item:

(A) The national stock number (NSN) or noncatalog number. Where applicable, include a prefix or suffix. If a number is not provided, or it is necessary to supplement the number, include other identification such as the manufacturer's name or Federal supply code (as published in Cataloging Handbook H4-1), and the part number. Show additional part numbers in parentheses or slashes. Show the descriptive noun of the item nomenclature and, if provided, the Government-assigned management/material control code. The contractor may use the following technique in the case of equal kind supply items. The first entry shall be the description without regard to kind. For example, “Shoe-Low Quarter-Black,” “Resistor,” “Vacuum Tube,” etc. Below this description, enter the contract line item number in Block 15 and Stock/Part number followed by the size or type in Block 16.

(B) On the next printing line, if required by the contract for control purposes, enter: The make, model, serial number, lot, batch, hazard indicator, or similar description.

(C) On the next printing lines enter—

(1) The Military Interdepartmental Purchase Request (MIPR) number prefixed by “MIPR” or the MILSTRIP requisition number(s) when provided in the contract; or

(2) Shipping instructions followed on the same line (when more than one requisition is entered) by the unit for payment and the quantity shipped against each requisition.

Example:

V04696-185-750XY19059A—EA 5

N0018801776038XY3211BA—EA 200

AT650803050051AAT6391J—EA 1000

(D) When a TCN is assigned for each line item, enter on the next line the transportation control number prefixed by “TCN.”

(ii) For service line items, enter the word “SERVICE” followed by as short a description as is possible in no more than 20 additional characters. Some examples of service line items are maintenance, repair, alteration, rehabilitation, engineering, research, development, training, and testing. Do not complete Blocks 4, 13, and 14 when there is no shipment of material.

(iii) For all contracts administered by the Defense Contract Management Agency, with the exception of fast pay procedures, enter and complete the following:

Gross Shipping Wt. ________

State weight in pounds only.

(iv) Starting with the next line, enter the following as appropriate (entries may be extended through Block 20). When entries apply to more than one line item in the DD Form 250 MIRR, enter them only once after the last line item entry. Reference applicable line item numbers.

(A) Enter in capital letters any special handling instructions/limits for material environmental control, such as temperature, humidity, aging, freezing, shock, etc.

(B) When a shipment is chargeable to Navy appropriation 17X4911, enter the appropriation, bureau control number (BCN), and authorization accounting activity (AAA) number (e.g., 17X4911-14003-104).

(C) When the Navy transaction type code (TC), “2T” or “7T” is included in the appropriation data, enter “TC 2T” or “TC 7T.”

(D) When an NSN is required by but not cited in a contract and has not been furnished by the Government, the contractor may make shipment without the NSN at the direction of the contracting officer. Enter the authority for such shipment.

(E) When Government furnished property (GFP) is included with or incorporated into the line item, enter the letters “GFP.”

(F) When shipment consists of replacements for supplies previously furnished, enter in capital letters “REPLACEMENT SHIPMENT.” (See F-301, Block 17, for replacement indicators).

(G) On shipments of Government furnished aeronautical equipment (GFAE) under Air Force contracts, enter the assignment AERNO control number, e.g., “AERNO 60-6354.”

(H) For items shipped with missing components, enter and complete the following:

“Item(s) shipped short of the following component(s):

NSN or comparable identification ________________,

Quantity __________, Estimated Value ___________,

Authority

(I) When shipment is made of components which were short on a prior shipment, enter and complete the following:

“These components were listed as shortageson shipment number _____________, date shipped __________________”

(J) When shipments involve drums, cylinders, reels, containers, skids, etc., designated as returnable under contract provisions, enter and complete the following:

“Return to_______________________, Quantity ___________, Item ______________, Ownership (Government/contractor).”

(K) Enter the total number of shipping containers, the type of containers, and the container number(s) assigned for the shipment.

(L) On foreign military sales (FMS) shipments, enter the special markings, and FMS case identifier from the contract. Also enter the gross weight.

(M) When test/evaluation results are a condition of acceptance and are not available prior to shipment, the following note shall be entered if the shipment is approved by the contracting officer:

Note: Acceptance and payment are contingent upon receipt of approved test/evaluation results.”

The contracting officer will advise—

(1) The consignee of the results (approval/disapproval); and

(2) The contractor to withhold invoicing pending attachment of the approved test/evaluation results.

(N) The copy of the DD Form 250 MIRR required to support payment for destination acceptance (top copy of those with shipment) or ARP origin acceptance shall be identified as follows: enter “PAYMENT COPY” in approximately one-half inch outline-type style letters with “FORWARD TO BLOCK 12 ADDRESS” in approximately one-quarter inch letters immediately below. Do not obliterate any other entries.

(O) For clothing and textile contracts containing a bailment clause, enter the words “GFP UNIT VALUE.”

(P) When the initial unit incorporating an approved value engineering change proposal (VECP) is shipped, enter the following statement:

This is the initial unit delivered which incorporates VECP

No. ________, Contract Modification

No. ________, dated __________

(17) Block 17—QUANTITY SHIPPED/RECEIVED.

(i) Enter the quantity shipped, using the unit of measure in the contract for payment. When a second unit of measure is used for purposes other than payment, enter the appropriate quantity directly below in parentheses.

(ii) On the final shipment of a line item of a contract containing a clause permitting a variation of quantity and an underrun condition exists, the prime contractor shall enter a “Z” below the last digit of the quantity. Where the final shipment is from other than the prime contractor's plant and an underrun condition exists, the prime contractor may elect either to—

(A) Direct the subcontractor making the final shipment to enter a “Z” below the quantity; or

(B) Upon determination that all subcontractors have completed their shipments, correct the DD Form 250 [MIRR] (see F-305) covering the final shipment of the line item from the prime contractor's plant by addition of a “Z” below the quantity. Do not use the “Z” on deliveries which equal or exceed the contract line item quantity.

(iii) For replacement shipments, enter “A” below the last digit of the quantity, to designate first replacement, “B” for second replacement, etc. Do not use the final shipment indicator “Z” on underrun deliveries when a final line item shipment is replaced.

17. | QUANTITY
| SHIP/REC'D
| 1000
| (10)
| Z

(iv) If the quantity received is the same quantity shipped and all items are in apparent good condition, enter by a check mark. If different, enter actual quantity received in apparent good condition below quantity shipped and circle. The receiving activity will annotate the DD Form 250 MIRR stating the reason for the difference.

(18) Block 18-UNIT. Enter the abbreviation of the unit measure as indicated in the contract for payment. Where a second unit of measure is indicated in the contract for purposes other than payment or used for shipping purposes, enter the second unit of measure directly below in parentheses. Authorized abbreviations are listed in MIL-STD-129, Marking for Shipping and Storage. For example, LB for pound, SH for sheet.

18. | UNIT
| LB
| (SH)

(19) Block 19-UNIT PRICE. The contractor may, at its option, enter unit prices on all DD Form 250 MIRR copies, except as a minimum:

(i) The contractor shall enter unit prices on all DD Form 250 MIRR copies for each item of property fabricated or acquired for the Government and delivered to a contractor as Government furnished property (GFP). Get the unit price from Section B of the contract. If the unit price is not available, use an estimate. The estimated price should be the contractor's estimate of what the items will cost the Government. When the price is estimated, enter an “E” after the unit price.

(ii) Use the procedures in F-306 when the DD Form 250 MIRR is used as an invoice.

(iii) For clothing and textile contracts containing a bailment clause, enter the cited Government furnished property unit value opposite “GFP UNIT VALUE” entry in Block 16.

(iv) Price all copies of DD Forms 250 MIRR for FMS shipments with actual prices, if available. If actual price are not available, use estimated prices. When the price is estimated, enter an “E” after the price.

(20) Block 20-AMOUNT. Enter the extended amount when the unit price is entered in Block 19.

(21) Block 21-CONTRACT QUALITY ASSURANCE (CQA).

(i) The words “conform to contract” contained in the printed statements in Blocks 21a and 21b relate to quality and to the quantity of the items on the report. Do not modify the statements. Enter notes taking exception in Block 16 or on attached supporting documents with an appropriate block cross-reference.

(ii) When a shipment is authorized under alternative release procedure, attach or include the appropriate contractor signed certificate on the top copy of the DD Form 250 MIRR copies distributed to the payment office or attach or include the appropriate contractor certificate on the contract administration office copy when contract administration (Block 10 of the DD Form 250 MIRR) is performed by the Defense Contract Management Agency (DCMA).

(iii) When contract terms provide for use of Certificate of Conformance and shipment is made under these terms, the contractor shall enter in capital letters “CERTIFICATE OF CONFORMANCE” in Block 21a on the next line following the CQA and acceptance statements. Attach or include the appropriate contractor-signed certificate on the top copy of the DD Form 250 MIRR copies distributed to the payment office or attach or include the appropriate certificate on the contract administration office copy when contract administration (Block 10 of the DD Form 250 MIRR) is performed by DCMA. In addition, attach a copy of the signed certificate to, or enter on, copies of the DD Form 250 MIRR sent with shipment.

(iv) ORIGIN.

(A) The authorized Government representative must—

(1) Place an “X” in the appropriate CQA and/or acceptance box(es) to show origin CQA and/or acceptance; When the contract requires CQA at destination in addition to origin CQA, enter an asterisk at the end of the statement and an explanatory note in Block 16;

(2) Sign and date;

(3) Enter the typed, stamped, or printed name, title, mailing address, and commercial telephone number.

(B) When alternative release procedures apply—

(1) The contractor or subcontractor shall complete the entries required under paragraph (b)(21)(ii) of this section and enter in capital letters “ALTERNATIVE RELEASE PROCEDURE” on the next line following the printed CQA/acceptance statement.

(2) When acceptance is at origin and contract administration is performed by an office other than DCMA, the contractor shall furnish the four payment office copies of the DD Form 250 MIRR to the authorized Government representative for dating and signing of one copy and forwarding of all copies to the payment office.

(3) When acceptance is at origin and contract administration is performed by DCMA, furnish the contract administration office copy of the DD Form 250 MIRR to the authorized Government representative for dating and signing and forwarding to the contract administration office (see F-401, Table 1).

(C) When fast pay procedures apply, the contractor or subcontractor shall enter in capital letters “FAST PAY” on the next line following the printed CQA/acceptance statement. When CQA is required, the authorized Government representative shall execute the block as required by F-301(b)(20)(iv)(A).

(D) When Certificate of Conformance procedures apply, inspection or inspection and acceptance are at source, and the contractor's Certificate of Conformance is required, the contractor shall enter in capital letters “CERTIFICATE OF CONFORMANCE” as required by paragraph (b)(21)(iii) of this section.

(1) For contracts administered by an office other than DCMA, furnish the four payment office copies of the DD Form 250 MIRR to the authorized Government representative for dating and signing of one copy, and forwarding of all copies to the payment office.

(2) For contracts administered by DCMA, furnish the contract administration office copy of the DD Form 250 MIRR to the authorized Government representative for dating and signing and forwarding to the contract administration office (see F-401, Table 1).

(3) When acceptance is at destination, no entry shall be made other than “CERTIFICATE OF CONFORMANCE.”

(v) DESTINATION.

(A) When acceptance at origin is indicated in Block 21a, make no entries in Block 21b.

(B) When CQA and acceptance or acceptance is at destination, the authorized Government representative must—

(1) Place an “X” in the appropriate box(es);

(2) Sign and date; and

(3) Enter typed, stamped, or printed name, title, mailing address, and commercial telephone number.

(C) When “ALTERNATIVE RELEASE PROCEDURE” is entered in Block 21a and acceptance is at destination, the authorized Government representative must complete the entries required by F-301(b)(20)(ii).

(D) Forward the executed payment copy or MILSCAP format identifier PKN or PKP to the payment office cited in Block 12 within four work days (five days when MILSCAP Format is used) after delivery and acceptance of the shipment by the receiving activity. Forward one executed copy of the final DD Form 250 MIRR to the contract administration office cited in Block 10 for implementing contract closeout procedures.

(E) When “FAST PAY” is entered in Block 21a, make no entries in this block.

(22) Block 22-RECEIVER'S USE. The authorized representative of the receiving activity (Government or contractor) must use this block to show receipt, quantity, and condition. The authorized representative must-

(i) Enter the date the supplies arrived. For example, when off-loading or in-checking occurs subsequent to the day of arrival of the carrier at the installation, the date of the carrier's arrival is the date received for purposes of this block;

(ii) Sign; and

(iii) Enter typed, stamped, or printed name, title, mailing address, and commercial telephone number.

(23) Block 23—CONTRACTOR USE ONLY. Self explanatory.

F-402 Mode/Method of Shipment Codes

Use the mode/method of shipment codes at F-302.

F-403 Consolidated Shipments

When individual shipments are held at the contractor's plant for authorized transportation consolidation to a single bill of lading, the contractor may prepare the DD Forms 250 MIRR at the time of CQA or acceptance prior to the time of actual shipment (see Block 3).

F-404 Multiple Consignee Instructions

The contractor may prepare one DD Form 250 MIRR when the identical line item(s) of a contract are to be shipped to more than one consignee, with the same or varying quantities, and the shipment requires origin acceptance. Prepare the DD Form 250 MIRR using the procedures in this appendix with the following changes—

(a) Blocks 2, 4, 13, and, if applicable, 14—Enter “See Attached Distribution List.”

(b) Block 15—The contractor may group item numbers for identical stock/part number and description.

(c) Block 17—Enter the “total” quantity shipped by line item or, if applicable, grouped identical line items.

(d) Use the DD Form 250c to list each individual “Shipped To” and “Marked For” with—

(1) Code(s) and complete shipping address and a sequential shipment number for each;

(2) Line item number(s);

(3) Quantity;

(4) MIPR number(s), preceded by “MIPR,” or the MILSTRIP requisition number, and quantity for each when provided in the contract or shipping instructions; and

(5) If applicable, B/L number, TCN, and mode of shipment code.

(e) The contractor may omit those distribution list pages of the DD Form 250c that are not applicable to the consignee. Provide a complete DD Form 250 MIRR for all other distribution.

F-405 Correction Instructions

Make a new revised DD Form 250 MIRR or correct the original when, because of errors or omissions, it is necessary to correct the DD Form 250 MIRR after distribution has been made. Use data identical to that of the original DD Form 250 MIRR. Do not correct DD Form 250 MIRRs for Blocks 19 and 20 entries. Make the corrections as follows—

(a) Circle the error and place the corrected information in the same block; if space is limited, enter the corrected information in Block 16 referencing the error page and block. Enter omissions in Block 16 referencing omission page and block. For example—

| 2. | SHIPMENT NO. |  | 17. | QUANTITY SHIP/REC'D
|  | (AAA0001) |  |  | 19
|  | See Block 16 |  |  | (17)
| 16. | STOCK/PART NO./DESCRIPTION
| CORRECTIONS:
| Refer Block 2: Change shipment No. AAA0001 to AAA0010 on all pages of the DD Form 250 MRR.
| Refer Blocks 15, 16, 17, and 18, page 2: Delete in entirety Line Item No. 0006. This item was not shipped.

(b) When corrections have been made to entries for line items (Block 15) or quantity (Block 17), enter the words “CORRECTIONS HAVE BEEN VERIFIED” on page 1. The authorized Government representative will date and sign immediately below the statement. This verification statement and signature are not required for other corrections.

(c) Clearly mark the pages of the DD Form 250 MIRR requiring correction with the words “CORRECTED COPY.” Avoid obliterating any other entries. Where corrections are made only on continuation sheets, also mark page number 1 with the words “CORRECTED COPY.”

(d) Page 1 and only those continuation pages marked “CORRECTED COPY” shall be distributed to the initial distribution. A complete DD Form 250 MIRR with corrections shall be distributed to new addressee(s) created by error corrections.

F-406 Invoice Instructions

(a) Contractors shall submit payment requests and receiving reports in electronic form, unless an exception in 232.7002 applies. Contractor submission of the material inspection and receiving information required by this appendix by using the WAWF electronic form (see paragraph (b) of the clause at 252.232-7003) fulfills the requirement for a DD Form 250 MIRR.

(b) If the contracting officer authorizes the contractor to submit an invoice in paper form, the Government encourages, but does not require, the contractor to use the DD Form 250 MIRR as an invoice, in lieu of a commercial form. If commercial forms are used, identify the related DD Form 250 MIRR shipment number(s) on the form. If using the DD Form 250 MIRR as an invoice, prepare the DD Form 250 MIRR and forward the required number of copies to the payment office as follows:

(1) Complete Blocks 5, 6, 19, and 20. Block 6 shall contain the invoice number and date. Column 20 shall be totaled.

(2) Mark in letters approximately one inch high, first copy: “ORIGINAL INVOICE,” for all invoice submissions; and three copies: “INVOICE COPY,” when the payment office requires four copies. Questions regarding the appropriate number of copies (i.e., one or four) should be directed to the applicable payment office.

(3) Forward the appropriate number of copies to the payment office (Block 12 address); except when acceptance is at destination and a Navy finance office will make payment, forward to destination.

(4) Separate the copies of the DD Form 250 MIRR used as an invoice from the copies of the DD Form 250 MIRR used as a receiving report.

F-407 Packing List Instructions.

Contractors may use copies of the DD Form 250 MIRR as a packing list. The packing list copies are in addition to the copies of the DD Form 250 MIRR required for standard distribution (see F-401). Mark them “PACKING LIST.”

F-408 Receiving Instructions

When the DD Form 250 MIRR is used for receiving purposes, local directives shall prescribe procedures. If CQA and acceptance or acceptance of supplies is required upon arrival at destination, see F-301(b)(20)(v) for instructions.

15. Add new section F-501 to newly designated part 5; revise newly designated section F-502, including Table 1; and in the heading above Table 2 remove “Material Inspection and Receiving Report” and add in its place “DD Form 250 Material Inspection and Receiving Report” as follows:

PART 5—DISTRIBUTION OF WIDE AREA WORKFLOW RECEIVING REPORT (WAWF RR), DD FORM 250 MIRR AND DD FORM 250c

F-501 Distribution of WAWF RR

Use of the WAWF electronic form satisfies the distribution requirements of this section, except for the copies required to accompany shipment.

F-502 Distribution of DD FORM 250 MIRR AND DD FORM 250c

(a) The contractor is responsible for distributing the DD Form 250 MIRR, including mailing and payment of postage.

(b) Contractors shall distribute DD Form 250 MIRRs using the instructions in Tables 1 and 2 of this section.

(c) Contractors shall distribute DD Form 250 MIRRs on non-DoD contracts using this appendix as amended by the contract.

(d) Contractors shall make distribution promptly, but no later than the close of business of the work day following—

(1) Signing of the DD Form 250 MIRR (Block 21a) by the authorized Government representative; or

(2) Shipment when authorized under terms of alternative release, certificate of conformance, or fast pay procedures; or

(3) Shipment when CQA and acceptance are to be performed at destination.

(e) Do not send the consignee copies (via mail) on overseas shipments to port of embarkation. Send them to consignee at APO/FPO address.

(f) Copies of the DD Form 250 MIRR forwarded to a location for more than one recipient shall clearly identify each recipient.

DD 250 FORM MATERIAL INSPECTION AND RECEIVING REPORT

Table 1—Standard Distribution
With Shipment* | 2
Consignee (via mail) | 1
(For Navy procurement, include unit price)
(For foreign military sales, consignee copies are not required)
Contract Administration Office | 1
(Forward direct to address in Block 10 except when addressee is a Defense Contract Management Agency (DCMA) office and a certificate of conformance or the alternate release procedures (see F-401, Block 21) is involved, and acceptance is at origin; then, forward through the authorized Government representative.) |
Purchasing Office | 1
Payment Office** | 2
(Forward direct to address in Block 12 except— |
(i) When address in Block 10 is a DCMA office and payment office in Block 12 is the Defense Finance and Accounting Service, Columbus Center, do not make distribution to the Block 12 addressee;
(ii) When address in Block 12 is the Defense Finance and Accounting Service, Columbus Center/Albuquerque Office (DFAS-CO/ALQ), Kirtland AFB, NM, attach only one copy to the required number of copies of the contractor's invoice;
(iii) When acceptance is at destination and a Navy finance office will make payment, forward to destination; and
(iv) When a certificate of conformance or the alternative release procedures (see F-401, Block 21) are involved and acceptance is at origin, forward the copies through the authorized Government representative.
ADP Point for CAO (applicable to Air Force only) | 1
(When DFAS-CO/ALQ is the payment office in Block 12, send one copy to DFAS-CO/ALQ immediately after signature. If submission of delivery data is made electronically, distribution of this hard copy need not be made to DFAS-CO/ALQ.) |
CAO of Contractor Receiving GFP | 1
(For items fabricated or acquired for the Government and shipped to a contractor as Government furnished property, send one copy directly to the CAO cognizant of the receiving contractor, ATTN: Property Administrator (see DoD 4105.59-H).) |
* Two copies of the receiving report (paper copies of either the DD Form 250 or the WAWF RR) shall be distributed with the shipment. Attach as follows:

Type of Shipment | Location
Carload or truckload | Affix to the shipment where it will be readily visible and available upon receipt.
Less than carload or truckload | Affix to container number one or container truckload bearing lowest number.
Mail, including parcel post | Attach to outside or include in the package. Include a copy in each additional package of multi-package shipments.
Pipeline, tank car, or railroad cars for coal movements | Forward with consignee copies.
** Payment by Defense Finance and Accounting Service, Columbus Center will be based on the source acceptance copies of DD Forms 250 forwarded to the contract administration office. For contracts administered by an office other than Defense Contract Management Agency, furnish four copies of the DD Form 250 MIRR to the payment office.

* * * * *

16. Revise the heading of newly designated Part 6 to read as follows:

PART 6—PREPARATION OF THE DD FORM 250-1 TANKER/BARGE MATERIAL INSPECTION AND RECEIVING REPORT

* * * * *

17. Revise newly designated Part 8 to read as follows:

PART 8—DISTRIBUTION OF THE DD FORM 250-1

F-801 Distribution

Follow the procedures at PGI F 801 for distribution of DD Form 250-1.

F-802 Corrected DD Form 250-1

Follow the procedures at PGI F-802 when corrections to DD Form 250-1 are needed.

[FR Doc. 2010-22878 Filed 9-16-10; 8:45 am]

BILLING CODE 5001-08-P